DEPARTMENT OF COMMERCE

National Oceanic and Atmospheric Administration

RIN 0648-XC813

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Groundfish/Habitat Committees on September 5, 2013 to consider actions affecting New England fisheries in the exclusive economic zone (EEZ). Recommendations from this group will be brought to the full Council for formal consideration and action, if appropriate.

DATES: This meeting will be held on Thursday, September 5, 2013 at 9 a.m.

ADDRESSES: The meeting will be held at the Sheraton Harborside Hotel, 250 Market Street, Portsmouth, NH 03801; telephone: (603) 431-2300; fax: (603) 433-5649.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Council's Habitat and Groundfish Oversight Committees will meet jointly to discuss alternatives under development in Omnibus Essential Fish Habitat Amendment 2. Specifically, the Committees will discuss information collected during a series of interviews between staff and industry members, including a technical review conducted by the Council's Habitat Plan Development and Closed Area Technical Teams. Based on the industry information and the associated technical guidance, the Committee may recommend that the Council adjust some of the management alternatives prior to completion of the draft environmental impact statement. In addition, the Committees will discuss and approve a framework adjustment and data collection process related to groundfish management areas. The Committees will also review the amendment timeline and discuss 2014 management priorities. The Groundfish Committee may also address issues under development for Framework 51 to the Northeast Multispecies (Groundfish) fishery management plan. A closed session will be used to review advisory panel appointments.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 16, 2013.
William D. Chappell,
Acting Deputy Director, Office of Sustainable Fisheries, National Marine Fisheries Service.

[FR Doc. 2013-20389 Filed 8-20-13; 8:45 am]

BILLING CODE 3510-22-P